DEPARTMENT OF AGRICULTURE

Rural Utilities Service

Announcement of Grant Application Deadlines and Funding Levels

AGENCY: Rural Utilities Service, USDA.

ACTION: Notice of solicitation of applications.

SUMMARY: USDA Rural Development administers rural utilities service through the Rural Utilities Service. USDA Rural Development announces its Public Television Digital Transition Grant Program application window for fiscal year (FY) 2006.

DATES: You may submit completed applications for grants on paper or electronically according to the following deadlines:

• Paper copies must carry proof of shipping no later than May 15, 2006 to be eligible for FY 2006 grant funding. Late applications are not eligible for FY 2006 grant funding.

• Electronic copies must be received by May 15, 2006 to be eligible for FY 2006 grant funding. Late applications are not eligible for FY 2006 grant funding.

ADDRESSES: You may obtain application guides and materials for the Public Television Station Digital Transition Grant Program via the Internet at the following Web site: http://www.usda.gov/rus/telecom/. You may also request application guides and materials from USDA Rural Development by contacting the appropriate individual listed in Section VII of the SUPPLEMENTARY INFORMATION section of this notice.

• Submit completed paper applications for grants to the USDA Rural Development, U.S. Department of Agriculture, 1400 Independence Ave., SW., Room 2845, STOP 1550, Washington, DC 20250-1550. Applications should be marked “Attention: Director, Advanced Services Division, Telecommunications Program.”

• Submit electronic grant applications to Grants.gov at the following Web address: http://www.grants.gov/ (Grants.gov), and follow the instructions you find on that Web site.

FOR FURTHER INFORMATION CONTACT: Orren E. Cameron III, Director, Advanced Services Division, Telecommunications, USDA Rural Development, U.S. Department of Agriculture, telephone: (202) 690-4493, fax: (202) 720-1051.

SUPPLEMENTARY INFORMATION:

Overview

Federal Agency: Rural Utilities Service (RUS).

Funding Opportunity Title: Public Television Station Digital Transition Grant Program.

Announcement Type: Initial announcement.

Catalog of Federal Domestic Assistance (CFDA) Number: 10.861.

Dates: You may submit completed applications for grants on paper or electronically according to the following deadlines:

• Paper copies must carry proof of shipping no later than May 15, 2006, to be eligible for FY 2006 grant funding. Late applications are not eligible for FY 2006 grant funding.

• Electronic copies must be received by May 15, 2006, to be eligible for FY 2006 grant funding. Late applications are not eligible for FY 2006 grant funding.

Items in Supplementary Information

I. Funding Opportunity: Brief Introduction to the Public Television Station Digital Transition Grant Program

II. Award Information: Available Funds and Maximum Amounts

III. Eligibility Information: Who Is Eligible, What Kinds of Projects Are Eligible, What Criteria Determine Basic Eligibility

IV. Application and Submission Information: Where to Get Application Materials, What Constitutes a Completed Application, How and Where to Submit Applications, Deadlines, Items That Are Eligible

V. Application Review Information: Considerations and Preferences, Scoring Criteria, Review Standards, Selection Information

VI. Award Administration Information: Award Notice Information, Award Recipient Reporting Requirements

VII. Agency Contacts: Web, Phone, Fax, E-mail, Contact Name

I. Funding Opportunity

As part of the nation's transition to digital television, the Federal Communications Commission (FCC) required all television broadcasters to begin broadcasting using digital signals, and to cease broadcasting in analog by December 31, 2006. As of August 2005, forty of the nation's 355 public television transmitters have not launched DTV service. In addition, the vast majority of DTV stations serving rural areas have not yet been able to build out their full digital facilities that would allow them to replicate their analog services in the digital environment. It is important for these stations to be able to cover their former analog service areas, and to tailor their programs and services (e.g., education services, public health, homeland security, and local culture) to their rural constituents, and this may require transmitter/translator upgrades and other broadcast and video. If stations cannot continue to meet their analog standards of robust service, some Public Television programming will be lost, and many school systems may be left without the educational programming they count on for curriculum compliance. With the FCC deadline of December 31, 2006, for the end of the digital transition approaching, it is vital that rural stations continue their services to rural America.

On January 20, 2006, the Rural Utilities Service issued an Interim Final Rule which defines rules for the program (71 FR 3205). This regulation incorporates new statutory requirements and updates this competitive grant program.

This notice has been formatted to conform to a policy directive issued by the Office of Federal Financial Management (OFFM) of the Office of Management and Budget (OMB), published in the Federal Register on June 23, 2003, (68 FR 37370). This Notice does not change the Public Television Station Digital Transition Grant Program regulation (7 CFR part 1740).

II. Award Information

A. Available Funds

1. General. The Administrator has determined that the following amounts are available for grants in FY 2006 under 7 CFR 1740.1.

2. Grants

a. $4.97 million is available for grants from FY 2006. Under 7 CFR 1740.2, the maximum amount for grants under this program is $1 million per applicant per year.

b. Assistance instrument: USDA Rural Development will execute grant documents appropriate to the project prior to any advance of funds with successful applicants.

B. Public Television Station Digital Transition Grants Cannot Be Renewed

Award documents specify the term of each award, and due to uncertainties in regulatory approvals of digital television broadcast facilities, the period during which grant funding is available will be extended upon request.

III. Eligibility Information

A. Who is eligible for grants? (See 7 CFR 1740.3.)

1. Public television stations which serve rural areas are eligible for Public Television Station Digital Transition Grants. A public television station is a noncommercial educational television broadcast station that is qualified for Community Service Grants by the Corporation for Public Broadcasting under section 396(k) of the Communications Act of 1934.

2. Individuals are not eligible for Public Television Station Digital Transition Grant Program financial assistance directly.

B. What are the basic eligibility requirements for a project?

1. Grants shall be made to perform digital transitions of television broadcasting serving rural areas. Grant funds may be used to acquire, lease, and/or install facilities and software necessary to the digital transition. Specific purposes include:

a. Digital transmitters, translators, and repeaters, including all facilities required to initiate DTV broadcasting. All broadcast facilities acquired with grant funds shall be capable of delivering DTV programming and HDTV programming, at both the interim and final channel and power authorizations. There is no limit to the number of transmitters or translators that may be included in an application;

b. Power upgrades of existing DTV transmitter equipment;

c. Studio-to-transmitter links;

d. Equipment to allow local control over digital content and programming, including master control equipment;

e. Digital program production equipment, including cameras, editing, mixing and storage equipment;

f. Multicasting and datacasting equipment;

g. Cost of the lease of facilities, if any, for up to three years; and,

h. Associated engineering and environmental studies necessary to implementation.

2. Matching contributions: There is no requirement for matching funds in this program (see 7 CFR 1740.5) * * *

3. To be eligible for a grant, the Project must not (see 7 CFR 1740.7):

a. Include funding for ongoing operations or for facilities that will not be owned by the applicant, except for leased facilities as provided above;

b. Include costs of salaries, wages, and employee benefits of public television station personnel unless they are for construction or installation of eligible facilities;

c. Have been funded by any other source;

d. Include items bought or built prior to the application deadline specified in this Notice of Funds Availability.

C. See paragraph IV.B of this notice for a discussion of the items that make up a completed application. You may also refer to 7 CFR 1740.9 for completed grant application items.

IV. Application and Submission Information

A. Where To Get Application Information

The application guide, copies of necessary forms and samples, and the Public Television Station Digital Transition Grant Program regulation are available from these sources:

1. The Internet: http://www.usda.gov/rus/telecom/, or http://www.grants.gov.

2. Advanced Services Division, USDA Rural Development, for paper copies of these materials: (202) 690-4493.

B. What Constitutes a Completed Application?

1. Detailed information on each item required can be found in the Public Television Station Digital Transition Grant Program regulation and the Public Television Station Digital Transition Grant Program application guide. Applicants are strongly encouraged to read and apply both the regulation and the application guide. This Notice does not change the requirements for a completed application for any form of Public Television Station Digital Transition Grant Program financial assistance specified in the program regulation. The program regulation and application guide provide specific guidance on each of the items listed and the application guide provides all necessary forms and sample worksheets.

2. A completed application must include the following documentation, studies, reports and information in form satisfactory to USDA Rural Development. Applications should be prepared in conformance with the provisions in 7 CFR 1740, subpart A, and applicable USDA regulations including 7 CFR parts 3015, 3016, and 3019. Applicants must use the application guide for this program containing instructions and all necessary forms, as well as other important information, in preparing their application. Completed applications must include the following:

a. An application for federal assistance, Standard Form 424.

b. An executive summary, not to exceed two pages, describing the public television station, its service area and offerings, its current digital transition status, and the proposed project.

c. Evidence of the applicant's eligibility to apply under this Notice, proving that the applicant is a Public Television Station as defined in this Part, and that it is required by the FCC to perform the digital transition.

d. A spreadsheet showing the total project cost, with a breakdown of items sufficient to enable USDA Rural Development to determine individual item eligibility.

e. A coverage contour map showing the digital television coverage area of the application project. This map must show the counties (or county) comprising the Core Coverage Area by shading and by name. Partial counties included in the applicant's Core Coverage Area must be identified as partial and must contain an attachment with the applicant's estimate of the percentage that its coverage contour comprises the total area of the county (total area is available from American Factfinder, referenced above). If the application is for a translator, the coverage area may be estimated by the applicant through computer modeling or some other reasonable method, and this estimate is subject to acceptance by USDA Rural Development.

f. The applicant's own calculation of its Rurality score, supported by a worksheet showing the population of its Core Coverage Area, and the urban and rural populations within the Core Coverage Area. The data source for the urban and rural components of that population must be identified. If the application includes computations made by a consultant or other organization outside the public television station, the application shall state the details of that collaboration.

g. The applicant's own calculation of its Economic Need score, supported by a worksheet showing the National School Lunch Program eligibility levels for all school districts within the Core Coverage Area and averaging these eligibility percentages. The application must include a statement from the state or local organization that administers the NSLP program certifying the school district scores used in the computations.

h. If applicable, a presentation not to exceed five pages demonstrating the Critical Need for the project.

i. Evidence that the FCC has authorized the initiation of digital broadcasting at the project sites. In the event that an FCC construction permit has not been issued for one or more sites, those sites may be included in the grant, however, advance of funds for that site conditional upon the submission of a construction permit.

j. Compliance with other Federal statutes. The applicant must provide evidence or certification that it is in compliance with all applicable Federal statutes and regulations, including, but not limited to the following:

(1) Executive Order (E.O.) 11246, Equal Employment Opportunity, as amended by E.O. 11375 and as supplemented by regulations contained in 41 CFR part 60;

(2) Architectural barriers;

(3) Flood hazard area precautions;

(4) Assistance and Real Property Acquisition Policies Act of 1970;

(5) Drug-Free Workplace Act of 1998 (41 U.S.C. 701);

(6) E.O.s 12549 and 12689, Debarment and Suspension; and

(7) Byrd Anti-Lobbying Amendment (31 U.S.C. 1352).

k. Environmental impact and historic preservation. The applicant must provide details of the digital transition's impact on the environment and historic preservation, and comply with 7 CFR part 1794, which contains policies and procedures for implementing a variety of federal statutes, regulations, and executive orders generally pertaining to the protection of the quality of the human environment. This must be contained in a separate section entitled “Environmental Impact of the Digital Transition,” and must include the Environmental Questionnaire/Certification, available from USDA Rural Development, describing the impact of its digital transition. Submission of the Environmental Questionnaire/Certification alone does not constitute compliance with 7 CFR part 1794.

3. DUNS Number. As required by the OMB, all applicants for grants must now supply a Dun and Bradstreet Data Universal Numbering System (DUNS) number when applying. The Standard Form 424 (SF-424) contains a field for you to use when supplying your DUNS number. Obtaining a DUNS number costs nothing and requires a short telephone call to Dun and Bradstreet. Please see the Public Television Station Digital Transmitter Grant Program Web site or Grants.gov for more information on how to obtain a DUNS number or how to verify your organization's number.

C. How Many Copies of an Application Are Required?

1. Applications submitted on paper: Submit the original application and two (2) copies to USDA Rural Development.

2. Electronically submitted applications: Additional paper copies for USDA Rural Development are not necessary if you submit the application electronically through Grants.gov.

D. How and Where To Submit an Application

Grant applications may be submitted on paper or electronically.

1. Submitting applications on paper.

a. Address paper applications for grants to the USDA Rural Development, U.S. Department of Agriculture, 1400 Independence Ave., SW., Room 2845, STOP 1550, Washington, DC 20250-1550. Applications should be marked “Attention: Director, Advanced Services Division, Telecommunications Program.”

b. Paper applications must show proof of mailing or shipping consisting of one of the following:

(i) A legibly dated postmark applied by the U.S. Postal Service;

(ii) A legible mail receipt with the date of mailing stamped by the USPS; or

(iii) A dated shipping label, invoice, or receipt from a commercial carrier.

c. Non-USPS-applied postage dating, i.e., dated postage meter stamps, do not constitute proof of the date of mailing.

d. Due to screening procedures at the Department of Agriculture, packages arriving via the USPS are irradiated, which can damage the contents. USDA Rural Development encourages applicants to consider the impact of this procedure in selecting their application delivery method.

2. Electronically submitted applications.

a. Applications will not be accepted via facsimile machine transmission or electronic mail.

b. Electronic applications for grants will be accepted if submitted through the Federal Government's Grants.gov initiative at http://www.grants.gov.

c. How to use Grants.gov:

(i) Navigate your Web browser to http://www.grants.gov.

(ii) Follow the instructions on that Web site to find grant information.

(iii) Download a copy of the application package.

(iv) Complete the package off-line.

(v) Upload and submit the application via the Grants.gov Web site.

d. Grants.gov contains full instructions on all required passwords, credentialing and software.

e. USDA Rural Development encourages applicants who wish to apply through Grants.gov to submit their applications in advance of the deadline. Difficulties encountered by applicants filing through Grants.gov will not justify filing deadline extensions.

f. If a system problem occurs or you have technical difficulties with an electronic application, please use the customer support resources available at the Grants.gov Web site.

g. New information for FY 2006.

(I) The scoring of Rurality and Economic Need has been simplified by changing the basis for a station's coverage area from the computer-generated Longley-Rice coverage plot to an area comprised of whole counties of which the applicant's proposed cover transmitters/transmitters at least 75% geographically. A mechanism is incorporated so that urban areas on the fringe of a station's coverage area do not diminish an applicant's score.

(iii) Economic Needs scoring is based on a project area's eligibility level in the National School Lunch Program, rather than its Per Capita Income. This change is made to capture the cost of living of the project area as well as its income level.

(ii) New purposes will be funded due to appropriations language.

E. Deadlines

1. Paper applications must be postmarked and mailed, shipped, or sent overnight no later than May 15, 2006 to be eligible for FY 2006 grant funding. Late applications are not eligible for FY 2006 grant funding.

2. Electronic grant applications must be received by May 15, 2006 to be eligible for FY 2006 funding. Late applications are not eligible for FY 2006 grant funding.

V. Application Review Information

A. Criteria

1. Grant applications are scored competitively and subject to the criteria listed below.

2. Grant application scoring criteria are detailed in 7 CFR 1740.8. There are 100 points available, broken down as follows:

a. The Rurality of the Project (up to 40 points);

b. The Economic Need of the Project's Service Area (up to 30 points); and

c. The Critical Need for the project, and of the applicant, including the benefits derived from the proposed service (up to 30 points).

B. Review Standards

1. All applications for grants must be delivered to USDA Rural Development at the address and by the date specified in this notice to be eligible for funding. Each application will be reviewed for conformance with the provisions of this part. Applicants may be contacted for additional information or clarification.

2. Incomplete applications as of the deadline for submission will not be considered. If an application is determined to be incomplete, the applicant will be notified in writing and the application will be returned with no further action.

3. Applications conforming with this part will be evaluated competitively by a panel of USDA Rural Development employees selected by the Administrator of RUS, and will be awarded points as described in the scoring criteria in 7 CFR 1740.8. Applications will be ranked and grants awarded in rank order until all grant funds are expended.

4. Regardless of the score an application receives, if it is determined that the Project is technically or financially infeasible, the applicant will be notified, in writing, and the application will be returned with no further action.

C. Scoring Guidelines

1. The applicant's self scores in Rurality and Economic Need will be checked and, if necessary, corrected by USDA Rural Development.

2. The Critical Need score will be determined by USDA Rural Development based on information presented in the application. This score is intended to capture from the rural public's standpoint the necessity and usefulness of the proposed project. This scoring category will also recognize that some transition purchases are more essential than others, so that applications for first digital transmitter capability and transmitter power upgrades that extend coverage into rural-only areas will receive scoring advantages. Master control facilities which tailor programming to local needs will also be recognized in this category.

VI. Award Administration Information

A. Award Notices

Each funded project is unique, and, therefore, various conditions may attach to different projects' which will appear in the award documents. Generally applicants whose projects are selected for awards are final by faxing an award letter. The award letter is followed with a grant agreement that contains all the terms and conditions for the grant. An applicant must execute and return the grant agreement, accompanied by any additional items required by the grant agreement.

B. Administrative and National Policy Requirements

The items listed in the program regulation at 7 CFR 1740.9(j) implement the appropriate administrative and national policy requirements.

C. Performance Reporting

All recipients of Public Television Station Digital Transition Grant Program financial assistance must provide annual performance activity reports to USDA Rural Development until the project is complete and the funds are expended. A final performance report is also required; the final report may serve as the last annual report. The final report must include an evaluation of the success of the project.

VII. Agency Contacts

A. Web site: http://www.usda.gov/rus/. USDA Rural Development Web site maintains up-to-date resources and contact information for the Public Television Station Digital Transition Grant Program.

B. Phone: 202-690-4493.

C. Fax: 202-720-1051.

D. Main point of contact: Orren E. Cameron III, Director, Advanced Services Division, Telecommunications Program, USDA Rural Development, U.S. Department of Agriculture.

Dated: March 7, 2006.
James M. Andrew,
Administrator, Rural Utilities Service.

[FR Doc. E6-3780 Filed 3-15-06; 8:45 am]

BILLING CODE 3410-15-P